DEPARTMENT OF ENERGY

Federal Energy Regulatory Commission

[Docket No. RM09-2-001]

Contract Reporting Requirements of Intrastate Natural Gas Companies; Notice of Availability of Form 549D Quarterly Reports for Q1 and Q2 2011

The Commission is making available to the public the Form No. 549D—Quarterly Transportation & Storage Reports for Intrastate Natural Gas and Hinshaw Pipelines for the first and second quarters of 2011. The data are located on the Commission's Web site at http://eformspublic.ferc.gov/.

The public may search and download the entire database for all quarters or specific quarters or for specific companies. As future quarterly reports are filed with the Commission, they will also be available on the Commission's Web site after the deadline for filing.

Any questions or comments regarding the data should be sent to the Form549D@ferc.gov mail box.

Dated: November 8, 2011.
Kimberly D. Bose,
Secretary.

[FR Doc. 2011-29403 Filed 11-14-11; 8:45 am]

BILLING CODE 6717-01-P